DEPARTMENT OF DEFENSE

Office of the Secretary

Termination of Department of Defense Federal Advisory Committee—Defense Advisory Committee on Women in the Services

AGENCY: Department of Defense (DoD).

ACTION: Termination of Federal Advisory Committee.

SUMMARY: The DoD is publishing this notice to announce that it is terminating the Defense Advisory Committee on Women in the Services (DACOWITS).

FOR FURTHER INFORMATION CONTACT: Jim Freeman, Advisory Committee Management Officer for the DoD, 703-692-5952.

SUPPLEMENTARY INFORMATION: Having completed its mission, the DACOWITS is being terminated in accordance with chapter 10 of title 5, United States Code (commonly referred to as the “Federal Advisory Committee Act” or “FACA”) and 41 Code of Federal Regulations chapter 102-3.55(2), effective September 17, 2025.

Dated: November 14, 2025.
Aaron T. Siegel,
Alternate OSD Federal Register Liaison Officer,Department of Defense.

[FR Doc. 2025-20198 Filed 11-17-25; 8:45 am]

BILLING CODE 6001-FR-P